DEPARTMENT OF THE INTERIOR

Bureau of Reclamation

Renewal of the Sacramento River Settlement Contracts, Shasta, Tehama, Butte, Glenn, Colusa, Sutter, Yolo, and Sacramento Counties, CA

AGENCY: Bureau of Reclamation, Interior.

ACTION: Notice; correction of hearing location.

SUMMARY: The Bureau of Reclamation published in the Federal Register a notice of availability (NOA) and notice of public hearing for the draft environmental impact statement for the renewal of long-term contracts to deliver water from the Central Valley Project (CVP) to the Sacramento River Settlement Contractors. The NOA contained an incorrect location for the public hearing.

FOR FURTHER INFORMATION CONTACT: Mr. Buford Holt, Environmental Specialist, Bureau of Reclamation, Northern California Area Office, at (530) 275-1554, TDD (530) 275-8991.

Correction: In the Federal Register of October 1, 2004, (FR 69 58947), on page 58948, in the first column, correct the Addresses column: The location for the October 27 Public Hearing is the Monday Afternoon Club, 120 North Lassen Street, Willows, California.

Dated: October 7, 2004.
Frank Michny,
Regional Environmental Officer, Mid-Pacific Region.

[FR Doc. 04-23147 Filed 10-14-04; 8:45 am]

BILLING CODE 4310-MN-P